DEPARTMENT OF DEFENSE

Department of the Army

Program Comment Plan for Army Vietnam War Era Historic Housing, Associated Buildings and Structures, and Landscape Features (1963-1975)

AGENCY: Department of the Army, DoD.

ACTION: Notice of Availability (NOA).

SUMMARY: The Department of the Army (Army) is making its Program Comment Plan for Army Vietnam War Era Historic Housing, Associated Buildings and Structures, and Landscape Features (1963-1975) (Army Program Comment Plan) available for public review. The Army Program Comment Plan is located on the Army's website: https://www.denix.osd.mil/Army-vwehh-pc under “Administrative Documents.”

DATES: Consideration will be given to all comments on the Army Program Comment Plan that are received within 30 days from the date of this Notice of Availability.

ADDRESSES: You may submit written comments identified by “Army Program Comment Plan” to: Office of the Assistant Secretary of the Army for Installations, Energy and Environment, ATTN: DASA-ESOH (Dr. David Guldenzopf), 110 Army Pentagon, Room 3E464, Washington, DC 20310-1001, or by email to david.b.guldenzopf.civ@army.mil.

FOR FURTHER INFORMATION CONTACT: Dr. David Guldenzopf, Department of the Army Federal Preservation Officer at david.b.guldenzopf.civ@army.mil, or (703) 459-7756.

SUPPLEMENTARY INFORMATION: This notice of availability for public review of the Army Program Comment Plan initiates the Army's public participation requirements under 36 CFR 800.14(e)(2) for the Army's proposed Program Comment for Army Vietnam War Era Historic Housing, Associated Buildings and Structures, and Landscape Features (1963-1975). On 8 October 2021, the Department of the Army notified the Advisory Council on Historic Preservation (ACHP) of the Army's intent to request a Program Comment for Army Vietnam War Era Historic Housing, Associated Buildings and Structures, and Landscape Features (1963-1975) in accordance with the National Historic Preservation Act (NHPA) 54 U.S.C. 306108, and 36 CFR 800.14 (e). The goal of the Program Comment is to provide the Army with National Historic Preservation Act (NHPA) 54 U.S.C. 306108 compliance for the repetitive management actions occurring on this large inventory of similar property types by means of the procedures in 36 CFR 800.14(e), in lieu of conducting individual projects reviews under 36 CFR 800.3 through 800.7.

James W. Satterwhite, Jr.,
Army Federal Register Liaison Officer.

[FR Doc. 2021-24720 Filed 11-12-21; 8:45 am]

BILLING CODE 5061-AP-P